DEPARTMENT OF ENERGY

Federal Energy Regulatory Commission

Notice of Applications for Authorization To Abandon Facilities and Services and To Acquire Facilities by Merger

Steuben Gas Storage Company | Docket No. CP12-465-000.
Arlington Gas Storage Company, LLC | Docket No. CP12-466-000.

Take notice that on May 21, 2012, Steuben Gas Storage Company (Steuben), Two Brush Creek Boulevard, Kansas City, Missouri 64112, filed in Docket No. CP12-465-000 an application pursuant to Section 7(b) of the Natural Gas Act (NGA) and Part 157 of the Commission's regulations seeking authorization to abandon by merger into Arlington Storage Company, LLC (Arlington), Steuben's corporate parent, Steuben's interest in the Adrian Field Storage Facilities (Adrian Field) which Steuben operates pursuant to certificates of public convenience and necessity issued by the Commission. Steuben represents that Arlington will maintain service to Steuben's existing customers from and after the effective date of the merger.

Take further notice that also on May 21, 2012, Arlington Storage Company, LLC (Arlington), Two Brush Creek Boulevard, Kansas City, Missouri 64112, filed in Docket No. CP12-466-000 an application pursuant to section 7(c) of the NGA for authorization to acquire, own and operate the Adrian Field, currently owned and operated by Steuben, a wholly-owned subsidiary of Arlington. Arlington further seeks reaffirmation of Arlington's authorization to charge market based rates following its acquisition of the Adrian Field Storage Facility.

The above referenced applications are more fully set forth in the submissions from the applicants which are on file with the Commission and open to the public for inspection. These filings may also be viewed on the Web at http://www.ferc.gov using the “eLibrary” link. Enter the docket number excluding the last three digits in the docket number field to access the documents. For assistance, contact FERC at FERCOnlineSupport@ferc.gov or call toll-free, (886) 208-3676 or TYY, (202) 502-8659.

Any questions regarding this application should be directed to James F. Bowe, Jr., King & Spalding, 1700 Pennsylvania Avenue NW., Suite 200, Washington, DC 20006, 202-626-9601 (phone), 202-626-3737 (fax), jbowe@kslaw.com (email).

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street NE., Washington, DC 20426. See, 18 CFR 385.2001(a)(1)(iii) and the instructions on the Commission's Web site under the “e-Filing” link.

Comment Date: June 13, 2012.

Dated: May 23, 2012.
Kimberly D. Bose,
Secretary.

[FR Doc. 2012-13027 Filed 5-29-12; 8:45 am]

BILLING CODE 6717-01-P